DEPARTMENT OF COMMERCE

National Oceanic and Atmospheric Administration

NOAA Ocean and Coastal Mapping Contracting Policy

AGENCY: National Ocean Service, National Oceanic and Atmospheric Administration (NOAA), Department of Commerce.

ACTION: Soliciting Public Comments on Draft Revised NOAA Contracting Policy.

SUMMARY: The NOAA National Ocean Service (NOS) is soliciting public comments on the draft NOAA Ocean and Coastal Mapping Contracting Policy. Current NOAA contracting policy and relevant legislation are available for review on the following Web site: http://www.nauticalcharts.noaa.gov/ocs/hsrp/hsrp.htm. Written public comments should be submitted to Roger L. Parsons by September 9, 2009.

Date and Time: Written public comments are due by September 9, 2009.

ADDRESSES: Submit written comments by mail, e-mail, or fax to Roger L. Parsons using one of the following: (1) Mail—Roger L. Parsons, NOAA Office of Coast Survey (N/CS), 1315 East West Highway, Silver Spring, MD 20910; (2) e-mail—Roger.L.Parsons@noaa.gov; or (3) fax (301) 713-4019.

FOR FURTHER INFORMATION CONTACT: Roger L. Parsons, NOAA Office of Coast Survey (N/CS), 1315 East West Highway, Silver Spring, MD 20910; e-mail: Roger.L.Parsons@noaa.gov; or phone: 301-713-2776 x205.

SUPPLEMENTARY INFORMATION: This is a draft NOAA Ocean and Coastal Mapping Contracting Policy. Current NOAA contracting policy and relevant legislation are available for review on the following Web site: http://www.nauticalcharts.noaa.gov/ocs/hsrp/hsrp.htm.

Background

The current NOAA Hydrographic Services Contracting Policy was published in the Federal Register on August 15, 2006. The proposed revision to this contracting policy (Draft NOAA Ocean and Coastal Mapping Contracting Policy) is in response to provisions of the Ocean and Coastal Mapping Integration Act of 2009.

Draft NOAA Ocean and Coastal Mapping Contracting Policy

The National Oceanic and Atmospheric Administration (NOAA) recognizes that qualified commercial sources can provide competent, professional, and cost-effective ocean and coastal mapping services, including hydrographic services, to NOAA in support of its diverse surveying, mapping and charting missions. NOAA also recognizes that providing mapping services is a core mission requirement of NOAA under the 1947 Coast and Geodetic Survey Act, Hydrographic Services Improvement Act of 1998 (as amended), and other laws and authorities. In the interest of public and environmental safety and the furtherance of scientific knowledge, the Federal Government's responsibility for executing its ocean and coastal mapping missions is manifest and non-delegable. However, it is incumbent upon NOAA, as recommended by the Hydrographic Services Review Panel, to maintain operational ocean and coastal mapping core capabilities and supplement its operational capacity by contracting for mapping services where appropriate and to the extent of available funding.

This policy statement documents the framework and conditions under which contracting will be employed to ensure an open and consistent approach. To support this policy, NOAA will maintain a dialogue with private sector organizations and constituent groups. As defined in the Hydrographic Services Improvement Act, the term “hydrographic services” means the management, maintenance, interpretation, certification, and dissemination of bathymetric, hydrographic, shoreline, geodetic, geospatial, geomagnetic, current information, and tide and water level, including the production of nautical charts, nautical information, data bases, and other products derived from hydrographic data. The term “ocean and coastal mapping” includes hydrographic services and other activities such as coral, benthic habitat, and land cover mapping. It is NOAA's intent to advance contracting and adhere to the principles of this policy to meet its diverse mapping requirements.

In general, it is the intent of NOAA to contract for ocean and coastal mapping services when qualified commercial sources exist, when such contracts are determined to be the most cost effective method of conducting these functions, and to the extent funding is available. NOAA will procure ocean and coastal mapping services from qualified sources in accordance with its legal authorities, the Federal Acquisition Regulations (FAR), and the Federal Property and Administrative Services Act of 1949 (40 U.S.C. 541 et seq.). Where required by law or where otherwise deemed appropriate, NOAA will procure the acquisition of hydrographic data¹ in accordance with Title IX of the Federal Property and Administrative Services Act.²

¹ Hydrographic data means information that is acquired through hydrographic, bathymetric, photogrammetric, lidar, radar, remote sensing, or shoreline and other ocean- and coastal-related surveying; geodetic, geospatial, or geomagnetic measurements; tide, water level, and current observations; and is used in providing hydrographic services.

² Commonly known as the “Brooks Act” or A&E (Architectural or Engineering) contracting services, Title IX contracts are negotiated and awarded on the basis of demonstrated competence and qualifications (qualification-based selections or QBS) as opposed to price.

NOAA may determine that a particular surveying or mapping activity is inherently governmental or otherwise not subject to contracting. NOAA surveying and mapping activities not subject to contracting may include, but are not limited to, services necessary to: (1) Monitor the quality of NOAA products; (2) promulgate and promote national and international technical standards and specifications; (3) conduct basic research and development and ensure the rapid transfer of derived technologies to the private sector; (4) maintain the integrity and accuracy of Federal geodetic and navigational databases; (5) support coastal stewardship ecosystem applications; and (6) support Maritime Domain Awareness and Homeland Security preparation and response activities; as well as (7) services that can only be carried out aboard a NOAA ship or aircraft because the survey platform possesses unique operational capabilities not available in the private sector. To carry out the aforementioned activities and to adequately monitor contracted services, NOAA will maintain core operational surveying and mapping capabilities.

To facilitate the leveraging of government mapping resources, NOAA will continue to make its geospatial and hydrographic services contracts available to State and local government entities that have a need for the services provided by these contracts and can provide adequate funding.

NOAA may task qualified commercial sources with ocean and coastal mapping services in any part of the U.S. Exclusive Economic Zone, territorial sea, Great Lakes, inland waters, and coastal watersheds for any mission-related purpose. The government's interests in and responsibilities for mapping vary broadly and experience has shown that maintaining flexibility is key to responding to the Nation's changing needs for geospatial data.

Ancillary Statements and Actions

As recommended by the Hydrographic Services Review Panel, NOAA will continue to utilize a mix of in-house and private-sector resources to accomplish its ocean and coastal mapping missions. Costs and productivity will be monitored within each category (i.e., public and private) to ensure best use of mapping resources. NOAA will continue to seek the optimal resource allocation between in-house and private-sector resources based on the strength of the governmental interest, the total requirement for ocean and coastal mapping services, and the particular operational capabilities of either government or private-sector resources that may make one more suitable for a given situation.

NOAA will continue to examine ways to improve its contracting process, including minimizing the turnover frequency of contracting personnel and reducing the length of time required to award contracts and task orders. NOAA will continue to offer debriefings to successful and unsuccessful contractors after final contractor selection has been made in order to assist contractors with identifying significant weaknesses or deficiencies in their submissions. NOAA will continue with its efforts to establish a Ocean and Coastal Mapping Training Center which, as conceived, will support NOAA's in-house hydrographic and acoustic surveying training requirements. In addition, the Center would provide training to NOAA and private sector contractors in techniques, standards and technologies that support NOAA's many shoreline, coastal and ocean mapping activities. Such training would be beneficial to current or prospective NOAA contractors seeking to improve their capabilities and proposal submissions.

Dated: August 5, 2009.
Steven R. Barnum,
NOAA Director, Office of Coast Survey, National Ocean Service, National Oceanic and Atmospheric Administration.

[FR Doc. E9-19819 Filed 8-18-09; 8:45 am]

BILLING CODE 3510-JE-P